NUCLEAR REGULATORY COMMISSION

Biweekly Notice; Applications and Amendments to Facility Operating Licenses Involving No Significant Hazards Considerations

I. Background

Pursuant to section 189a.(2) of the Atomic Energy Act of 1954, as amended (the Act), the U.S. Nuclear Regulatory Commission (the Commission or NRC staff) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from April 24 to May 7, 2008. The last biweekly notice was published on May 6, 2008 (73 FR 25034).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking, Directives and Editing Branch, Division of Administrative Services, Office of Administration, U.S. Nuclear Regulatory Commission, Washington, DC 20555-0001, and should cite the publication date and page number of this Federal Register notice. Written comments may also be delivered to Room T6-D44, Two White Flint North, 11545 Rockville Pike, Rockville, Maryland, from 7:30 a.m. to 4:15 p.m. Federal workdays. Copies of written comments received may be examined at the Commission's Public Document Room (PDR), located at One White Flint North, Public File Area O1-F21, 11555 Rockville Pike (first floor), Rockville, Maryland. The filing of requests for a hearing and petitions for leave to intervene is discussed below.

Within 60 days after the date of publication of this notice, person(s) may file a request for a hearing with respect to issuance of the amendment to the subject facility operating license and any person whose interest may be affected by this proceeding and who wishes to participate as a party in the proceeding must file a written request via electronic submission through the NRC E-Filing system for a hearing and a petition for leave to intervene. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area O1-F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

A request for hearing or a petition for leave to intervene must be filed in accordance with the NRC E-Filing rule, which the NRC promulgated in August 28, 2007 (72 FR 49139). The E-Filing process requires participants to submit and serve documents over the Internet or in some cases to mail copies on electronic storage media. Participants may not submit paper copies of their filings unless they seek a waiver in accordance with the procedures described below.

To comply with the procedural requirements of E-Filing, at least five (5) days prior to the filing deadline, the petitioner/requestor must contact the Office of the Secretary by e-mail at hearingdocket@nrc.gov, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms Viewer™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC technical help line, which is available between 8:30 a.m. and 4:15 p.m., Eastern Time, Monday through Friday. The help line number is (800) 397-4209 or locally, (301) 415-4737.

Participants who believe that they have a good cause for not submitting documents electronically must file a motion, in accordance with 10 CFR 2.302(g), with their initial paper filing requesting authorization to continue to submit documents in paper format. Such filings must be submitted by: (1) First-class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville, Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii). To be timely, filings must be submitted no later than 11:59 p.m. Eastern Time on the due date.

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings. With respect to copyrighted works, except for limited excerpts that serve the purpose of the adjudicatory filings and would constitute a Fair Use application, participants are requested not to include copyrighted materials in their submission.

For further details with respect to this amendment action, see the application for amendment which is available for public inspection at the Commission's PDR, located at One White Flint North, Public File Area 01F21, 11555 Rockville Pike (first floor), Rockville, Maryland. Publicly available records will be accessible from the ADAMS Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

AmerGen Energy Company, LLC, Docket No. 50-461, Clinton Power Station (CPS), Unit No.1, DeWitt County, Illinois

Date of amendment request: January 26, 2007.

Description of amendment request: The proposed amendment would revise Technical Specification 3.3.1.1, “Reactor Protection System (RPS) Instrumentation,” Table 3.3.1.1-1, “Reactor Protection System Instrumentation,” Function 8, “Scram Discharge Volume Water Level—High,” item b, “Float Switch,” by replacing Surveillance Requirement (SR) 3.3.1.1.9 with SR 3.3.1.1.12. This change will effectively revise the surveillance frequency for the scram discharge volume level float switch from every 92 days to every 24 months.

Basis for proposed no significant hazards consideration determination: As required by 10 CFR 50.91(a), the licensee has provided its analysis of the issue of no significant hazards consideration which is presented below:

1. Does the proposed amendment involve a significant increase in the probability or consequences of an accident previously evaluated?

Response: No.

The proposed TS change involves a change in the surveillance frequency for the SDV water level float switch channel functional test. The proposed TS change does not physically impact the plant. The proposed change does not affect the design of the SDV water level instruments, the operational characteristics or function of the instruments, the interfaces between the instruments and the RPS, or the reliability of the SDV water level instruments. The proposed TS change does not degrade the performance of, or increase the challenges to, any safety systems assumed to function in the accident analysis. As noted in the Bases to TS 3.3.1.1, even though the two types of SDV Water Level—High Functions are an input to the RPS logic, no credit is taken for a scram initiated from these functions for any of the design basis accidents or transients evaluated in the CPS Updated Safety Analysis Report (USAR). An inoperable SDV water level instrument is not considered as an initiator of any analyzed event. The proposed TS change does not impact the usefulness of the SRs in evaluating the operability of required systems and components, or the way in which the surveillances are performed. In addition, the frequency of surveillance testing is not considered an initiator of any analyzed accident, nor does a revision to the frequency introduce any accident initiators. Therefore, the proposed change does not involve a significant increase in the probability of an accident previously evaluated.

The consequences of a previously analyzed event are dependent on the initial conditions assumed in the analysis, the availability and successful functioning of equipment assumed to operate in response to the analyzed event, and the setpoints at which these actions are initiated. The consequences of a previously evaluated accident are not significantly increased by the proposed change. The proposed change does not affect the performance of any equipment credited to mitigate the radiological consequences of an accident. The risk assessment of the proposed changes has concluded that there is an insignificant increase in the core damage frequency as well as the total population dose rate. Historical review of surveillance test results and associated maintenance records did not find evidence of failures that would invalidate the above conclusions.

Therefore, the proposed change does not alter the ability to detect and mitigate events and, as such, does not involve a significant increase in the consequences of an accident previously evaluated.

2. Does the proposed amendment create the possibility of a new or different kind of accident from any [accident] previously evaluated?

Response: No.

The proposed TS change does not introduce any failure mechanisms of a different type than those previously evaluated, since there are no physical changes being made to the facility. No new or different equipment is being installed. No installed equipment is being operated in a different manner. There is no change being made to the parameters within which CPS is operated. There are no setpoints at which protective or mitigative actions are initiated that are affected by this proposed action. The change does not alter assumptions made in the safety analysis. This proposed action will not alter the manner in which equipment operation is initiated, nor will the function demands on credited equipment be changed. No alteration in the procedures, which ensure the unit remains within analyzed limits, is proposed, and no change is being made to procedures relied upon to respond to an off-normal event. As a result, no new failure modes are being introduced. The way surveillance tests are performed remains unchanged. A historical review of surveillance test results and associated maintenance records indicated there was no evidence of any failures that would invalidate the above conclusions.

Therefore, the proposed change does not create the possibility of a new or different kind of accident from any [accident] previously evaluated.

3. Does the proposed amendment involve a significant reduction in a margin of safety?

Response: No.

Margins of safety are established in the design of components, the configuration of components to meet certain performance parameters, and in the establishment of setpoints to initiate alarms or actions. The proposed TS change involves a change in the surveillance frequency for the SDV water level float switch channel functional test. There is no change in the design of the affected systems, no alteration of the setpoints at which alarms or actions are initiated, and no change in plant configuration from original design. The proposed change does not significantly impact the condition or performance of structures, systems, and components relied upon for accident mitigation. The proposed change does not result in any hardware changes or in any changes to the analytical limits assumed in accident analyses. Existing operating margin between plant conditions and actual plant setpoints is not significantly reduced due to these changes. The proposed change does not significantly impact any safety analysis assumptions or results.

AmerGen has conducted a risk assessment to determine the impact of a change to the SDV water level instrument surveillance frequency from the current once every 92 days to once every 24 months for the risk measures of Core Damage Frequency (CDF) and Large Early Release Frequency (LERF). This assessment indicated that the proposed CPS surveillance frequency extension has a very small change in risk to the public and is an acceptable plant change from a risk perspective.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. Bradley J. Fewell, Associate General Counsel, Exelon Generation Company, LLC, 4300 Winfield Road, Warrenville, IL 60555.

NRC Branch Chief: Russell Gibbs.

Carolina Power & Light Company, Docket Nos. 50-325 and 50-324, Brunswick Steam Electric Plant, Units 1 and 2, Brunswick County, North Carolina

Date of amendments request: July 17, 2007.

Description of amendment request: The proposed amendment would modify Brunswick Steam Electric Plant, Units 1 and 2, technical specifications (TS) requirements regarding control room envelope habitability in TS 3.7.3, “Control Room Emergency Ventilation (CREV) System,” and TS Section 5.5, “Programs and Manuals.” The changes would be consistent with NRC-approved industry Technical Specifications Task Force (TSTF) standard TS change traveler, TSTF-448, Revision 3. The NRC staff issued a “Notice of Availability of Technical Specification Improvement to Modify Requirements Regarding Control Room Envelope Habitability Using the Consolidated Line Item Improvement Process,” associated with TSTF-448, Revision 3, in the Federal Register on January 17, 2007 (72 FR 2022). The notice included a model safety evaluation, a model no significant hazards consideration (NSHC) determination, and a model license amendment request. In its application dated July 17, 2007, Carolina Power and Light Company (the licensee) affirmed the applicability of the model NSHC determination.

Basis for proposed no significant hazards consideration determination: As required by 10 CFR 50.91(a), an analysis of the issue of NSHC is presented below:

Criterion 1—The Proposed Change Does Not Involve a Significant Increase in the Probability or Consequences of an Accident Previously Evaluated

The proposed change does not adversely affect accident initiators or precursors nor alter the design assumptions, conditions, or configuration of the facility. The proposed change does not alter or prevent the ability of structures, systems, and components (SSCs) to perform their intended function to mitigate the consequences of an initiating event within the assumed acceptance limits. The proposed change revises the TS for the control room envelope (CRE) emergency ventilation system, which is a mitigation system designed to minimize unfiltered air leakage into the CRE and to filter the CRE atmosphere to protect the CRE occupants in the event of accidents previously analyzed. An important part of the CRE emergency ventilation system is the CRE boundary. The CRE emergency ventilation system is not an initiator or precursor to any accident previously evaluated. Therefore, the probability of any accident previously evaluated is not increased. Performing tests to verify the operability of the CRE boundary and implementing a program to assess and maintain CRE habitability ensure that the CRE emergency ventilation system is capable of adequately mitigating radiological consequences to CRE occupants during accident conditions, and that the CRE emergency ventilation system will perform as assumed in the consequence analyses of design basis accidents. Thus, the consequences of any accident previously evaluated are not increased. Therefore, the proposed change does not involve a significant increase in the probability or consequences of an accident previously evaluated.

Criterion 2—The Proposed Change Does Not Create the Possibility of a New or Different Kind of Accident From Any Accident Previously Evaluated

The proposed change does not impact the accident analysis. The proposed change does not alter the required mitigation capability of the CRE emergency ventilation system, or its functioning during accident conditions as assumed in the licensing basis analyses of design basis accident radiological consequences to CRE occupants. No new or different accidents result from performing the new surveillance or following the new program. The proposed change does not involve a physical alteration of the plant (i.e., no new or different type of equipment will be installed) or a significant change in the methods governing normal plant operation. The proposed change does not alter any safety analysis assumptions and is consistent with current plant operating practice. Therefore, this change does not create the possibility of a new or different kind of accident from any accident previously evaluated.

Criterion 3—The Proposed Change Does Not Involve a Significant Reduction in the Margin of Safety

The proposed change does not alter the manner in which safety limits, limiting safety system settings or limiting conditions for operation are determined. The proposed change does not affect safety analysis acceptance criteria. The proposed change will not result in plant operation in a configuration outside the design basis for an unacceptable period of time without compensatory measures. The proposed change does not adversely affect systems that respond to safely shut down the plant and to maintain the plant in a safe shutdown condition. Therefore, the proposed change does not involve a significant reduction in a margin of safety.

The NRC staff has reviewed the analysis adopted by the licensee and, based on this review it appears that the three standards of 10 CFR 50.92(c) are satisfied. Therefore, the NRC staff proposes to determine that the amendment request involves no significant hazards consideration.

Attorney for licensee: David T. Conley, Associate General Counsel II—Legal Department, Progress Energy Service Company, LLC, Post Office Box 1551, Raleigh, North Carolina 27602.

NRC Branch Chief: Thomas H. Boyce.

Carolina Power & Light Company, et al., Docket No. 50-400, Shearon Harris Nuclear Power Plant, Unit 1, Wake and Chatham Counties, North Carolina

Date of amendment request: January 4, 2008.

Description of amendment request: The proposed amendments would modify technical specification (TS) requirements related to control room envelope (CRE) habitability in accordance with the U.S. Nuclear Regulatory Commission (NRC)-approved Revision 3 of Technical Specification Task Force (TSTF) Standard Technical Specifications (STS) Change Traveler TSTF-448, “Control Room Habitability.”

The NRC staff published a notice of opportunity for comment in the Federal Register on October 17, 2006 (71 FR 61075), on possible license amendments adopting TSTF-448, which included a model safety evaluation (SE) and model no significant hazards consideration (NSHC) determination. The NRC staff subsequently issued a notice of availability of the models for referencing in license amendment applications in the Federal Register on January 17, 2007 (72 FR 2022), which included the resolution of public comments on the model SE and model NSHC determination. The licensee affirmed the applicability of the following NSHC determination in its application dated January 4, 2008.

Basis for proposed no significant hazards consideration determination: As required by 10 CFR 50.91(a), an analysis of the issue of no significant hazards consideration is presented below:

Criterion 1—The Proposed Change Does Not Involve a Significant Increase in the Probability or Consequences of an Accident Previously Evaluated

The proposed change does not adversely affect accident initiators or precursors nor alter the design assumptions, conditions, or configuration of the facility. The proposed change does not alter or prevent the ability of structures, systems, and components (SSCs) to perform their intended function to mitigate the consequences of an initiating event within the assumed acceptance limits. The proposed change revises the TS for the CRE emergency ventilation system, which is a mitigation system designed to minimize unfiltered air leakage into the CRE and to filter the CRE atmosphere to protect the CRE occupants in the event of accidents previously analyzed. An important part of the CRE emergency ventilation system is the CRE boundary. The CRE emergency ventilation system is not an initiator or precursor to any accident previously evaluated. Therefore, the probability of any accident previously evaluated is not increased. Performing tests to verify the operability of the CRE boundary and implementing a program to assess and maintain CRE habitability ensure that the CRE emergency ventilation system is capable of adequately mitigating radiological consequences to CRE occupants during accident conditions, and that the CRE emergency ventilation system will perform as assumed in the consequence analyses of design basis accidents. Thus, the consequences of any accident previously evaluated are not increased. Therefore, the proposed change does not involve a significant increase in the probability or consequences of an accident previously evaluated.

Criterion 2—The Proposed Change Does Not Create the Possibility of a New or Different Kind of Accident From Any Accident Previously Evaluated

The proposed change does not impact the accident analysis. The proposed change does not alter the required mitigation capability of the CRE emergency ventilation system, or its functioning during accident conditions as assumed in the licensing basis analyses of design basis accident radiological consequences to CRE occupants. No new or different accidents result from performing the new surveillance or following the new program. The proposed change does not involve a physical alteration of the plant (i.e., no new or different type of equipment will be installed) or a significant change in the methods governing normal plant operation. The proposed change does not alter any safety analysis assumptions and is consistent with current plant operating practice. Therefore, this change does not create the possibility of a new or different kind of accident from any accident previously evaluated.

Criterion 3—The Proposed Change Does Not Involve a Significant Reduction in the Margin of Safety

The proposed change does not alter the manner in which safety limits, limiting safety system settings or limiting conditions for operation as determined. The proposed change does not affect safety analysis acceptance criteria. The proposed change will not result in plant operation in a configuration outside the design basis for an unacceptable period of time without compensatory measures. The proposed change does not adversely affect systems that respond to safely shut down the plant and to maintain the plant in a safe shutdown condition. Therefore, the proposed change does not involve a significant reduction in a margin of safety.

The NRC staff proposes to determine that the amendment request involves no significant hazards consideration.

Attorney for licensee: David T. Conley, Associate General Counsel II—Legal Department, Progress Energy Service Company, LLC, Post Office Box 1551, Raleigh, North Carolina 27602.

NRC Branch Chief: Thomas H. Boyce.

Exelon Generation Company, LLC, Docket Nos. STN 50-456 and STN 50-457, Braidwood Station, Units 1 and 2, Will County, Illinois

Exelon Generation Company, LLC, Docket Nos. STN 50-454 and STN 50-455, Byron Station, Unit Nos. 1 and 2, Ogle County, Illinois

AmerGen Energy Company, LLC, Docket No. 50-461, Clinton Power Station, Unit No. 1, DeWitt County, Illinois

Exelon Generation Company, LLC, Docket Nos. 50-237 and 50-249, Dresden Nuclear Power Station, Units 2 and 3, Grundy County, Illinois

Exelon Generation Company, LLC, Docket Nos. 50-373 and 50-374, LaSalle County Station, Units 1 and 2, LaSalle County, Illinois

Exelon Generation Company, LLC, Docket No. 50-352 and No. 50-353, Limerick Generating Station, Unit 1 and 2, Montgomery County, Pennsylvania

AmerGen Energy Company, LLC, et al., Docket No. 50-219, Oyster Creek Nuclear Generating Station, Ocean County, New Jersey

Exelon Generation Company, LLC, and PSEG Nuclear LLC, Docket Nos. 50-277 and 50-278, Peach Bottom Atomic Power Station, Units 2 and 3,York and Lancaster Counties, Pennsylvania

Exelon Generation Company, LLC, Docket Nos. 50-254 and 50-265, Quad Cities Nuclear Power Station, Units 1 and 2, Rock Island County, Illinois

AmerGen Energy Company, LLC, Docket No. 50-289, Three Mile Island Nuclear Station, Unit 1 (TMI-1), Dauphin County, Pennsylvania

Date of amendment request: February 28, 2008.

Description of amendment request: The proposed amendment would clarify the wording of the Radioactive Effluent Controls Program (RECP) administrative technical specifications to reflect the intent of Generic Letter 89-01, “Implementation of Programmatic Controls for Radiological Effluent Technical Specifications [TS] in the Administrative Controls Section of the Technical Specifications and the Relocation of Procedural Details of RETS to the Offsite Dose Calculation Manual or to the Process Control Program,” regarding the determination requirements for cumulative and projected dose contributions. The proposed change will address ambiguity in the current TS where the program element could be interpreted to require determining projected dose contributions for the calendar quarter and current calendar year every 31 days.

Basis for proposed no significant hazards consideration determination: As required by 10 CFR 50.91(a), the licensee has provided its analysis of the issue of no significant hazards consideration, which is presented below:

1. Does the change involve a significant increase in the probability or consequences of an accident previously evaluated?

Response: No.

The proposed change revises the applicable TS Section to conform to TSTF-308-A, Revision 1[, “Determination of Cumulative and Projected Dose Contributions in RECP.”]

The proposed change is administrative and simply provides enhanced clarity of current requirements. Therefore, this change does not affect any accident initiators, does not affect the ability to successfully respond to previously evaluated accidents, and does not affect radiological assumptions used in the evaluations. This change will not alter the operation of process variables, structures, systems, or components as described in the affected stations' Updated Final Safety Analysis Report (UFSAR). As such, the probability of occurrence for a previously evaluated accident is not increased.

The consequences of a previously analyzed event are dependent on the initial conditions assumed in the analysis, the availability and successful functioning of equipment assumed to operate in response to the analyzed event, and the setpoints at which these actions are initiated. The consequences of a previously evaluated accident are not increased by the proposed change. The proposed change does not affect the performance of any equipment credited to mitigate the radiological consequences of an accident.

Therefore, the proposed change does not involve a significant increase in the probability or consequences of an accident previously evaluated.

2. Does the change create the possibility of a new or different kind of accident from any accident previously evaluated?

Response: No.

The proposed change does not involve a physical alteration of the plant (i.e., no new or different type of equipment will be installed) or changes in methods governing normal plant operation. No system or component setpoints will be changed, and the proposed change will not impose any new or eliminate any old requirements. There are no new accident initiators or equipment failure modes resulting from the proposed changes. The proposed changes are administrative in nature and support the implementation of common programs.

Thus, this proposed change does not create the possibility of a new or different kind of accident from any previously evaluated.

3. Does the change involve a significant reduction in a margin of safety?

Response: No.

The proposed change revises the applicable TS Section for the affected EGC and AmerGen stations to provide clarity concerning the determination requirements for cumulative and projected dose contributions.

The proposed change is administrative in nature and does not modify the safety limits or setpoints at which protective actions are initiated, and does not change the requirements governing operation or availability of safety equipment assumed to operate to preserve the margin of safety. In addition, there are no changes proposed to equipment operability requirements, setpoints, or limiting parameters specified in the stations' Technical Specifications.

Therefore, the proposed change does not involve a significant reduction in a margin of safety.

The NRC staff has reviewed the licensee's analysis and, based on this review, it appears that the three standards of 10 CFR 50.92(c) are satisfied. Therefore, the NRC staff proposes to determine that the requested amendments involve no significant hazards consideration.

Attorney for licensee: Mr. Bradley Fewell, Associate General Counsel, Exelon Generation Company, LLC, 4300 Winfield Road, Warrenville, IL 60555.

NRC Branch Chief: Russell Gibbs.

Florida Power Corporation, et al., Docket No. 50-302, Crystal River Unit 3 Nuclear Generating Plant, Citrus County, Florida

Date of amendment request: July 12, 2007.

Description of amendment request: The proposed amendment would modify Crystal River Unit 3 Improved Technical Specifications (ITS) requirements related to control room envelope habitability in ITS Section 3.7.12, “Control Room Emergency Ventilation System (CREVS),” and ITS Section 5.6.2.21, “Control Complex Habitability Envelope Integrity Program.” The changes would be consistent with the NRC-approved industry Technical Specifications Task Force (TSTF) standard TS change traveler, TSTF-448, Revision 3. The NRC staff issued a “Notice of Availability of Technical Specification Improvement to Modify Requirements Regarding Control Room Envelope Habitability Using the Consolidated Line Item Improvement Process,” associated with TSTF-448, Revision 3, in the Federal Register on January 17, 2007 (72 FR 2022). The notice included a model safety evaluation, a model no significant hazards consideration (NSHC) determination, and a model license amendment request. In its application dated July 12, 2007, Florida Power Corporation (the licensee) affirmed the applicability of the model NSHC determination.

Basis for proposed no significant hazards consideration determination: As required by 10 CFR 50.91(a), an analysis of the issue of NSHC is presented below:

Criterion 1—The Proposed Change Does Not Involve a Significant Increase in the Probability or Consequences of an Accident Previously Evaluated

The proposed change does not adversely affect accident initiators or precursors nor alter the design assumptions, conditions, or configuration of the facility. The proposed change does not alter or prevent the ability of structures, systems, and components (SSCs) to perform their intended function to mitigate the consequences of an initiating event within the assumed acceptance limits. The proposed change revises the TS for the control room envelope (CRE) emergency ventilation system, which is a mitigation system designed to minimize unfiltered air leakage into the CRE and to filter the CRE atmosphere to protect the CRE occupants in the event of accidents previously analyzed. An important part of the CRE emergency ventilation system is the CRE boundary. The CRE emergency ventilation system is not an initiator or precursor to any accident previously evaluated. Therefore, the probability of any accident previously evaluated is not increased. Performing tests to verify the operability of the CRE boundary and implementing a program to assess and maintain CRE habitability ensure that the CRE emergency ventilation system is capable of adequately mitigating radiological consequences to CRE occupants during accident conditions, and that the CRE emergency ventilation system will perform as assumed in the consequence analyses of design basis accidents. Thus, the consequences of any accident previously evaluated are not increased. Therefore, the proposed change does not involve a significant increase in the probability or consequences of an accident previously evaluated.

Criterion 2—The Proposed Change Does Not Create the Possibility of a New or Different Kind of Accident From Any Accident Previously Evaluated

The proposed change does not impact the accident analysis. The proposed change does not alter the required mitigation capability of the CRE emergency ventilation system, or its functioning during accident conditions as assumed in the licensing basis analyses of design basis accident radiological consequences to CRE occupants. No new or different accidents result from performing the new surveillance or following the new program. The proposed change does not involve a physical alteration of the plant (i.e., no new or different type of equipment will be installed) or a significant change in the methods governing normal plant operation. The proposed change does not alter any safety analysis assumptions and is consistent with current plant operating practice. Therefore, this change does not create the possibility of a new or different kind of accident from any accident previously evaluated.

Criterion 3—The Proposed Change Does Not Involve a Significant Reduction in the Margin of Safety

The proposed change does not alter the manner in which safety limits, limiting safety system settings or limiting conditions for operation are determined. The proposed change does not affect safety analysis acceptance criteria. The proposed change will not result in plant operation in a configuration outside the design basis for an unacceptable period of time without compensatory measures. The proposed change does not adversely affect systems that respond to safely shut down the plant and to maintain the plant in a safe shutdown condition. Therefore, the proposed change does not involve a significant reduction in a margin of safety.

The NRC staff has reviewed the analysis adopted by the licensee and, based on this review it appears that the three standards of 10 CFR 50.92(c) are satisfied. Therefore, the NRC staff proposes to determine that the amendment request involves no significant hazards consideration.

Attorney for licensee: David T. Conley, Associate General Counsel II—Legal Department, Progress Energy Service Company, LLC, Post Office Box 1551, Raleigh, North Carolina 27602.

NRC Branch Chief: Thomas H. Boyce.

Florida Power Corporation, et al., Docket No. 50-302, Crystal River Unit 3 Nuclear Generating Plant, Citrus County, Florida

Date of amendment request: January 17, 2008.

Description of amendment request: The proposed amendment would revise the Crystal River Unit 3 (CR3) Improved Technical Specification SR [surveillance requirement] 3.7.5.2, “Emergency Feedwater System,” and would align the text for the surveillance test frequency with the text in the NRC technical report, NUREG-1430, Volume 1, Revision 3, “Standard Technical Specifications Babcock and Wilcox Plants-Specifications.”

Basis for proposed no significant hazards consideration determination: As required by 10 CFR 50.91(a), the licensee has provided its analysis of the issue of no significant hazards consideration, which is presented below:

1. Does not involve a significant increase in the probability or consequences of an accident previously evaluated.

Changing the test frequency of SR 3.7.5.2 from “45 days on a STAGGERED TEST BASIS” to “In accordance with the Inservice Testing Program” will not affect any CR3 structure, system or component (SSC). As such, there will be no effect on plant operation, to any design function or analysis that verifies the capability of a SSC to perform a design function, or to any of the previously evaluated accidents in the CR3 Final Safety Analysis Report (FSAR). The proposed amendment will not change any operating procedure or administrative control.

Since the proposed amendment does not involve a change to any SSC, their operation or design, and since the proposed amendment will not change any of the previously evaluated accident in the CR3 FSAR, the probability and consequences of any accident or operating scenario will be unchanged by its implementation.

Therefore, the proposed change does not involve a significant increase in the probability or consequences of an accident previously evaluated.

2. Does not create the possibility of a new or different kind of accident from any accident previously evaluated.

The proposed change will not involve a physical alteration of the plant (i.e., no new or different type of equipment will be installed) or a change in the methods governing normal plant operation. The proposed change will not alter any assumptions made in the safety analysis.

Therefore, the proposed change does not create the possibility of a new or different kind of accident from any accident previously evaluated.

3. Does not involve a significant reduction in a margin on safety.

The proposed change will not alter the manner in which safety limits, limiting safety system settings or Limiting Conditions for Operation are determined. The safety analysis acceptance criteria are not affected by this change. The proposed change will not result in plant operation in a configuration outside of the accepted design basis. As such, the proposed change does not involve a significant reduction in a margin of safety.

The NRC staff has reviewed the licensee's analysis and, based on this review it appears that the three standards of 10 CFR 50.92(c) are satisfied. Therefore, the NRC staff proposes to determine that the amendment request involves no significant hazards consideration.

Attorney for licensee: David T. Conley, Associate General Counsel II—Legal Department, Progress Energy Service Company, LLC, Post Office Box 1551, Raleigh, North Carolina 27602.

NRC Branch Chief: Thomas H. Boyce.

Tennessee Valley Authority (TVA), Docket Nos. 50-327 and 50-328, Sequoyah Nuclear Plant, Units 1 and 2, Hamilton County, Tennessee

Date of amendment request: April 15, 2008.

Description of amendment request: The proposed amendment would change and realign several containment isolation subject matter Technical Specifications to the Nuclear Regulatory Commission Regulation (NUREG)—1431, Revision 3, “Standard Technical Specifications Westinghouse Plants.”

Basis for proposed no significant hazards consideration determination: As required by 10 CFR 50.91(a), the licensee has provided its analysis of the issue of no significant hazards consideration, which is presented below:

1. Does the proposed amendment involve a significant increase in the probability or consequences of an accident previously evaluated?

Response: No.

TVA's proposed change that involves administrative changes, including relocation of actions or SRs [surveillance requirements] to another LCO [limiting condition of operation] or to the TS administrative controls section; revision of text to conform with NUREG-1431 and add clarity; minor revision to definitions and other LCOs for fidelity; and deletion of Type A leakage test performance deferral information, do not result in technical changes to requirements currently present in the TS. These changes are administrative in nature and do not impact initiators of analyzed events.

They also do not impact the assumed mitigation of accidents or transients events. Therefore, these changes do not involve a significant increase in the probability or consequences of an accident previously evaluated.

TVA's proposed change eliminates an hourly time limit for operation of the containment purge supply and exhaust isolation valves. This change also eliminates associated actions and SRs. The containment purge and ventilation system is qualified and designed to isolate in the event of a design basis accident (DBA). The probability of occurrence of an accident is not increased by deletion of the time limit nor will it affect the system's capability for purge valve closure or containment isolation. This change does not result in a modification of the reactor building purge ventilation (RBPV) system. Consequently, the 10 CFR 100 limits for site boundary dose will not be exceeded in the event of an accident during containment purge operation. Therefore, the proposed amendment does not involve a significant increase in the probability or consequences of an accident previously evaluated.

TVA proposes to implement a new required action for systems that meet the criteria of general design requirement (GDC) 57 for closed system. The change would provide relaxation of the completion time for isolation of a penetration flow path for the identified systems. This change does not result in any plant modification and therefore the systems will continue to mitigate the consequences of a DBA. The proposed completion time is reasonable and is consistent with standard industry guidelines to ensure the accident mitigation equipment will be restored in a timely manner. The allow[ed] completion time for isolation is not a precursor to any DBE [Design Basis Event]; thus, no increase in the probability of accident previously evaluated is considered. Therefore, the proposed change does not involve a significant increase in the probability or consequences of an accident previously evaluated.

TVA's proposed change reduces the amount of technical details of an SR and relocates it to a licensee controlled document under the control of 10 CFR 50.59. The reduction in information is consistent with NUREG-1431. This change does not result in any hardware or operating procedure changes. Requirements to perform surveillances of the systems detailed in the information are not eliminated. The details being removed from the TSs are not assumed to be an initiator of any analyzed event and therefore would not involve a significant increase in the probability of an accident. This information also does not impact the assumed mitigation of accidents or transient events. Therefore, these changes do not involve a significant increase in the probability or consequences of an accident previously evaluated.

TVA's proposed change adds a more restrictive requirement to conform to NUREG-1431 in support of eliminating the hourly time limit for the operation of the containment purge isolation valves. This change will require a verification that open travel restrictors are in the containment purge valves during modes of applicability. The change will also require conditional leakage testing of a containment purge valve used to isolate a penetration.

This change does not result in a modification of the RBPV system as the restrictors were installed during initial plant licensing. Leakage testing is not a new requirement for these valves. These changes provide a more stringent requirement that previously existed in the TSs. These more stringent requirements do not result in operation that will increase the probability of initiating an analyzed event. This change assists in the operability of the containment purge supply and exhaust isolation valves.

Therefore, the proposed change does not involve a significant increase in the probability or consequences of an accident previously evaluated.

2. Does the proposed amendment create the possibility of a new or different kind of accident from any accident previously evaluated?

Response: No.

TVA's proposed changes that involve administrative change, including relocation of actions or SRs to another LCO or to the TS administrative controls section; revision of text to conform with NUREG-1431 and add clarity; minor revision to definitions and other LCOs for fidelity; and deletion of Type A leakage test performance deferral information, do not result in technical changes to requirements currently present in the TS. These changes do not involve a physical alteration of the plant (no new or different type of equipment will be installed) or changes in the methods governing normal plant operations. These changes will not impose any new or different requirements or eliminate any existing requirements. Therefore, this change does not create the possibility of a new or different kind of accident from any accident previously evaluated.

TVA's proposed change eliminates an hourly time limit for operation of the containment purge supply and exhaust isolation valves. This change also eliminates associated actions and SRs. This change does not involve a change to plant systems, components, or operating practices that could result in a change in accident generation potential. The containment purge supply and exhaust valves are utilized for the isolation of flow paths to the environs and are not a feature that could generate a postulated accident. Elimination of the operational time restriction of the containment purge supply and exhaust isolation valves will not impact the potential for accidents. Therefore, this proposed change does not create the possibility of a new or different kind of accident from any previously evaluated.

TVA proposes to implement a new required action for systems that meet the closed system design. The change would provide relaxation of the completion time for isolation of a penetration flow path for the identified systems. This change does not involve a physical alteration of the plant (no new or different type of equipment will be installed) or require any unusual operator actions. The proposed change will not alter the way any structure, system, or component functions, and will not alter the manner the plant is operated. The response of the plant and the operators following an accident will not be different. The change does not introduce any new failure modes.

Therefore, this proposed change does not create the possibility of a new or different kind of accident from any previously evaluated.

TVA's proposed change reduces the amount of technical details of an SR and relocates it to a licensee controlled document under the control of 10 CFR 50.59.

The reduction in information is consistent with NUREG-1431 and adequate control of the information will be maintained. This change does not involve a physical alteration of the plant (no new or different type of equipment will be installed) or changes in testing requirements of these systems. This change will not alter assumptions made in the safety analysis and licensing basis. Therefore, this proposed change does not create the possibility of a new or different kind of accident from any previously evaluated.

TVA's proposed change adds a more restrictive requirement to conform to NUREG-1431 in support of eliminating the hourly time limit for the operation of the containment purge isolation valves. This change will require a verification that open travel restrictors are in the containment purge valves during modes of applicability. The change will also require conditional leakage testing of a containment purge valve used to isolate a penetration. This change does not result in a modification of the RBPV system as the restrictors were installed during initial plant licensing. Leakage testing is not a new requirement for these valves. Verification of restrictors does not modify normal plant operations, but does impose different administrative requirements. Action required leakage rate testing of an isolated containment purge valve does create new requirements. However, these changes will maintain the assumptions in the safety analyses and licensing basis. Therefore, this proposed change does not create the possibility of a new or different kind of accident from any previously evaluated.

3. Does the proposed amendment involve a significant reduction in a margin of safety?

Response: No.

TVA's proposed changes that involve administrative change, including relocation of actions or SRs to another LCO or to the TS administrative controls section; revision of text to conform with NUREG-1431 and add clarity; minor revision to definitions and other LCO for fidelity; and deletion of Type A leakage test performance deferral information, do not result in technical changes to requirements currently present in the TS. These changes will not reduce a margin of safety because it has no impact on any safety analysis assumptions. Also, since these changes are administrative in nature, no question of safety is involved. Therefore, these changes do not involve a significant reduction in a margin of safety.

TVA's proposed change eliminates an hourly time limit for operation of the containment purge supply and exhaust isolation valves. This change also eliminates associated actions and SRs. The proposed change does not alter plant systems or their setpoints that are used to maintain the margin of safety. Operability will continue to be maintained by testing and verification requirements on the containment purge valves. Therefore, the proposed change does not involve a reduction in a margin of safety.

TVA proposes to implement a new required action for systems that meet the closed system design. The change would provide relaxation of the completion time for isolation of a penetration flow path for the identified systems. This change does not result in any plant modification, testing requirements to ensure operability, or a change in safety limits or safety system settings. The proposed completion time is reasonable and is consistent with standard industry guidelines to ensure the accident mitigation equipment will be restored in a timely manner. Therefore, the proposed change does not involve a reduction in a margin of safety.

TVA's proposed change reduces the amount of technical details of an SR and relocates it to a licensee controlled document under the control of 10 CFR 50.59. This change does not reduce the margin of safety since the location of the details has no impact on any safety assumptions. Therefore, the proposed change does not involve a reduction in a margin of safety.

TVA's proposed change adds a more restrictive requirement to conform to NUREG-1431 in support of eliminating the hourly time limit for the operation of the containment purge isolation valves. This change will require a verification that open travel restrictors are in the containment purge valves during modes of applicability. The change will also require conditional leakage testing of a containment purge valve used to isolate a penetration. Adding more stringent requirements, by definition, provides additional restrictions to enhance plant safety. As such, no question of safety is involved. Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, ET 11A, Knoxville, Tennessee 37902.

NRC Branch Chief: Thomas H. Boyce.

Virginia Electric and Power Company, Docket Nos. 50-280 and 50-281, Surry Power Station, Unit Nos. 1 and 2, Surry County, Virginia

Date of amendment request: April 2, 2008.

Description of amendment request: The proposed change revises Technical Specification (TS) Section 5.0, “Design Features,” to delete certain design details and descriptions included in TS 5.0 that are already contained in the Updated Final Safety Analysis Report (UFSAR), or are redundant to existing TS requirements, and are not required to be included in the TSs pursuant to Title 10 of the Code of Federal Regulations (10 CFR), Part 50, Section 50.36(c)(4). The proposed change also revises the format of, and incorporates design descriptions into, TS 5.0 consistent with Nuclear Regulatory Commission (NRC) policy and NUREG-1431, Standard Technical Specifications, Westinghouse Plants, Revision 3.0, to the extent practical. An editorial change is also proposed to address a minor TS discrepancy introduced by a previous license amendment.

Basis for proposed no significant hazards consideration determination: As required by 10 CFR 50.91(a), the licensee has provided its analysis of the issue of no significant hazards consideration, which is presented below:

1. Does the change involve a significant increase in the probability or consequences of an accident previously evaluated?

Response: No.

The proposed change to Section 5.0, “Design Features,” deletes certain details from the TS that are not required to be maintained in the TS by 10 CFR 50.36(c)(4), adds new TS limits that meet the 10 CFR 50.36(c)(4) inclusion criteria and revises the TS for consistency with NUREG-1431, Revision 3.0. The remaining change addresses a minor editorial discrepancy.

The proposed change does not add or modify any plant system, structures or component and has no impact on plant equipment operation. Thus, the proposed change is administrative in nature and does not affect initiators of analyzed events or assumed mitigation of accident or transient events. Therefore, this change does not involve a significant increase in the probability or consequences of an accident previously evaluated.

2. Does the change create the possibility of a new or different kind of accident from any accident previously evaluated?

Response: No.

Since the proposed change is administrative in nature, it does not involve a physical alteration of the plant (no new or different type of equipment will be installed) or changes in methods governing normal plant operation. The proposed change does not adversely affect accident initiators or precursors nor alter the design assumptions, conditions, or configuration of the facility. The proposed change does not alter or prevent the ability of structures, systems, and components (SSCs) to perform their intended function to mitigate the consequences of an initiating event within the assumed acceptance limits. Thus, this change does not create the possibility of a new or different kind of accident from any accident previously evaluated.

3. Does this change involve a significant reduction in a margin of safety?

Response: No.

The proposed TS change is administrative in nature and as such does not alter the manner in which safety limits, limiting safety system settings or limiting conditions for operation are determined, and the dose analysis acceptance criteria are not affected. The proposed change does not result in plant operation in a configuration outside the analyses or design basis and does not adversely affect systems that respond to safely shut down the plant and to maintain the plant in a safe shutdown condition. Therefore, the proposed TS change does not involve a significant reduction in a margin of safety.

The NRC staff has reviewed the licensee’s analysis and, based on this review, it appears that the three standards of 10 CFR 50.92(c) are satisfied. Therefore, the NRC staff proposes to determine that the amendment request involves no significant hazards consideration.

Attorney for licensee: Lillian M. Cuoco, Esq., Senior Counsel, Dominion Resources Services, Inc., 120 Tredegar Street, RS-2 Richmond, VA 23219.

NRC Branch Chief: Melanie C. Wong.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for a Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland.

Publicly available records will be accessible from the Agencywide Documents Access and Management Systems (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

AmerGen Energy Company, LLC, et al., Docket No. 50-219, Oyster Creek Nuclear Generating Station, Ocean County, New Jersey

Date of application for amendment: April 12, 2007.

Brief description of amendment: The amendment establishes more effective and appropriate action, surveillance, and administrative requirements related to ensuring the habitability of the control room envelope in accordance with Nuclear Regulatory Commission approved Technical Specification Task Force (TSTF) Standard Technical Specification change traveler TSTF-448, Revision 3, “Control Room Habitability.”

Date of Issuance: April 30, 2008.

Effective date: As of its date of issuance and shall be implemented within 180 days of issuance.

Amendment No.: 265.

Facility Operating License No. DPR-16: Amendment revised the License and Technical Specifications.

Date of initial notice in Federal Register: The January 23, 2008, letter provided clarifying information within the scope of the original application and did not change the staff's initial proposed no significant hazards consideration determination dated June 5, 2007 (72 FR 31100). The Commission's related evaluation of this amendment is contained in a Safety Evaluation dated April 30, 2008.

No significant hazards consideration comments received: No.

Calvert Cliffs Nuclear Power Plant, Inc., Docket Nos. 50-317 and 50-318, Calvert Cliffs Nuclear Power Plant, Unit Nos. 1 and 2, Calvert County, Maryland

Date of application for amendments: November 8, 2007, as supplemented by letter dated March 11, 2008.

Brief description of amendments: The amendments modify Technical Specification (TS) 1.1, “Definitions,” to clarify the definitions of Channel Calibration and Channel Functional Test. The amendments incorporate TS Task Force (TSTF) Standard TS Change Traveler TSTF-205-A, “Revision of Channel Calibration, Channel Functional Test, and Related Definitions,” Revision 3, dated July 31, 2003.

Date of issuance: April 23, 2008.

Effective date: As of the date of issuance to be implemented within 60 days.

Amendment Nos.: 286 and 263.

Renewed Facility Operating License Nos. DPR-53 and DPR-69: Amendments revised the License and Technical Specifications.

Date of initial notice in Federal Register: December 18, 2007 (72 FR 71705).

The letter dated March 11, 2008, provided additional information that clarified the application, did not expand the scope of the application as originally noticed, and did not change the staff's original proposed no significant hazards consideration determination as published in the Federal Register. The Commission's related evaluation of these amendments is contained in a Safety Evaluation dated April 23, 2008.

No significant hazards consideration comments received: No.

Carolina Power & Light Company, Docket Nos. 50-325 and 50-324, Brunswick Steam Electric Plant, Units 1 and 2, Brunswick County, North Carolina

Date of application for amendments: September 26, 2007, as supplemented by letter dated December 7, 2007.

Brief description of amendments: The amendments revise Technical Specification (TS) 5.5.6, “Inservice Testing Program,” to reflect changes to the American Society of Mechanical Engineers Boiler and Pressure Vessel Code requirements for inservice testing of pumps and valves, and corresponding changes to Title 10 of the Code of Federal Regulations (10 CFR), Section 50.55a, “Codes and standards.” The changes are based on Technical Specification Task Force (TSTF) Traveler TSTF-479, “Changes to Reflect Revision of 10 CFR 50.55a,” as modified by TSTF-497, “Limit Inservice Testing Program SR [Surveillance Requirement] 3.0.2 Application to Frequencies of 2 Years or Less.”

Date of issuance: April 23, 2008.

Effective date: Date of issuance, to be implemented within 60 days.

Amendment Nos.: 247 and 275.

Facility Operating License Nos. DPR-71 and DPR-62: Amendments change the TSs and licenses.

Date of initial notice in Federal Register: January 29, 2008 (73 FR 5217). The staff's proposed no significant hazards consideration determination, as published in the Federal Register was based on the letter dated December 7, 2007. The Commission's related evaluation of the amendments is contained in a Safety Evaluation dated April 23, 2008.

No significant hazards consideration comments received: No.

FirstEnergy Nuclear Operating Company, et al., Docket No. 50-440, Perry Nuclear Power Plant, Unit No. 1, Lake County, Ohio

Date of application for amendment: September 18, 2007.

Brief description of amendment: This amendment would modify Technical Specification (TS) requirements related to control room envelope habitability in accordance with Technical Specification Task Force (TSTF) Traveler TSTF-448, Revision 3.

Date of issuance: April 25, 2008.

Effective date: As of the date of issuance and shall be implemented within 120 days.

Amendment No.: 148.

Facility Operating License No. NPF-58: This amendment revised the Technical Specifications and License.

Date of initial notice in Federal Register: January 29, 2008 (73 FR 5221). The Commission's related evaluation of the amendment is contained in a Safety Evaluation dated April 25, 2008.

No significant hazards consideration comments received: No.

Florida Power Corporation, et al., Docket No. 50-302, Crystal River Unit No. 3 Nuclear Generating Plant, Citrus County, Florida

Date of application for amendment: April 13, 2007, as supplemented by letters dated September 4 and 13, 2007, and February 25, 2008.

Brief description of amendment: The amendment changes the technical specifications (TSs) to extend the completion time associated with an inoperable low pressure injection train, reactor building spray train, decay heat closed cycle cooling water train, and decay heat seawater train, from 72 hours to 7 days. The change has been requested consistent with NRC-approved T-S Task Force (TSTF) traveler TSTF-430 Revision 2. Additional changes to the TSs implement TSTF-439 Revision 2, to eliminate second completion times.

Date of issuance: April 30, 2008.

Effective date: Date of issuance, to be implemented within 60 days.

Amendment No.: 229.

Facility Operating License No. DPR-72: Amendment revises the technical specifications.

Date of initial notice in Federal Register: September 12, 2007 (72 FR 52167). The supplements dated September 4 and 13, 2007, and February 25, 2008, provided additional information that clarified the application, did not expand the scope of the application as originally noticed, and did not change the staff's original proposed no significant hazards consideration determination as published in the Federal Register. The Commission's related evaluation of the amendment is contained in a safety evaluation dated April 30, 2008.

No significant hazards consideration comments received: No.

FPL Energy Seabrook, LLC, Docket No. 50-443, Seabrook Station, Unit No. 1, Rockingham County, New Hampshire

Date of amendment request: March 7, 2008, as supplemented by letter dated March 26, 2008.

Description of amendment request: The amendment revises the Seabrook Technical Specifications to extend the time allowed to collect initial plateau curves for the intermediate and power range neutron detectors to 24 hours after reaching 100 percent of rated thermal power.

Date of issuance: April 29, 2008.

Effective date: As of its date of issuance, and shall be implemented within 5 days.

Amendment No.: 118.

Facility Operating License No. NPF-86: The amendment revised the License and Technical Specifications.

Date of initial notice in Federal Register: March 19, 2008 (73 FR 14850). A correction to the notice was published on March 27, 2008 (73 FR 16327) and a duplicate, bi-weekly notice was published on April 8, 2008 (73 FR 19111). The licensee's March 26, 2008, supplement provided clarifying information that did not change the scope of the proposed amendment as described in the original notice of proposed action published in the Federal Register, and did not change the initial proposed no significant hazards consideration determination. The Commission's related evaluation of the amendment is contained in a Safety Evaluation dated April 29, 2008.

No significant hazards consideration comments received: No.

Indiana Michigan Power Company, Docket Nos. 50-315 and 50-316, Donald C. Cook Nuclear Plant, Units 1 and 2 (DCCNP-1 and DCCNP-2), Berrien County, Michigan

Date of application for amendments: July 30, 2007, as supplemented by letter dated February 13, 2008.

Brief description of amendments: The amendments added a Surveillance Requirement, SR 3.8.2.2, that is applicable when offsite electrical power is supplied to a unit via backfeed through the main transformer and the unit is in either MODE 5, MODE 6, or during movement of irradiated fuel.

Date of issuance: April 28, 2008.

Effective date: As of the date of issuance, and shall be implemented within 45 days.

Amendment No.: 304 (for DCCNP-1) and 287 (for DCCNP-2).

Facility Operating License Nos. DPR-58 and DPR-74: Amendments revised the Renewed Operating Licenses and Technical Specifications.

Date of initial notice in Federal Register: September 25, 2007 (72 FR 54475).

The supplemental letter contained clarifying information, did not change the initial no significant hazards consideration determination, and did not expand the scope of the original Federal Register notice. The Commission's related evaluation of the amendment is contained in a safety evaluation dated April 28, 2008.

No significant hazards consideration comments received: No.

Indiana Michigan Power Company, Docket Nos. 50-315 and 50-316, Donald C. Cook Nuclear Plant, Units 1 and 2 (DCCNP-1 and DCCNP-2), Berrien County, Michigan

Date of application for amendments: June 13, 2007, as supplemented by letter dated February 13, 2008.

Brief description of amendments: The amendments revised Section 5.5.9, “Ventilation Filter Testing Program (VFTP),” changing the specified pressure drop values for the combined high efficient particulate air filters and charcoal adsorbers for three engineered safety feature ventilation systems from less than 6 inches water gauge to less than 4 inches water gauge at the specified flow rates.

Date of issuance: April 28, 2008.

Effective date: As of the date of issuance, and shall be implemented within 45 days.

Amendment No.: 305 (for DCCNP-1) and 288 (for DCCNP-2).

Facility Operating License Nos. DPR-58 and DPR-74: Amendments revised the Renewed Operating Licenses and Technical Specifications.

Date of initial notice in Federal Register: August 14, 2007 (72 FR 45458). The supplemental letter contained clarifying information, did not change the initial no significant hazards consideration determination, and did not expand the scope of the original Federal Register notice. The Commission's related evaluation of the amendment is contained in a safety evaluation dated April 28, 2008.

No significant hazards consideration comments received: No.

Omaha Public Power District, Docket No. 50-285, Fort Calhoun Station, Unit No. 1, Washington County, Nebraska

Date of amendment requests: July 30 and October 19, 2007, as supplemented by letters dated August 31 and December 12, 2007, and February 21, March 28, and April 4 and 10, 2008.

Brief description of amendment: The amendment revised Technical Specification (TS) Limiting Condition for Operation (LCO) 2.4, “Containment Cooling,” LCO 2.14, “Engineered Safety Features System Initiation Instrumentation Settings,” and LCO 2.15, “Instrumentation and Control Systems”; TS Surveillance Requirement (SR) 3.1, “Instrumentation and Control,” SR 3.5(4), “Containment Isolation Valves Leak Rate Tests (Type C Tests),” and SR 3.6(3), “Containment Recirculating Air Cooling and Filtering System”; and associated TS Basis documents and Updated Safety Analysis Report sections to modify the containment spray system actuation logic to preclude automatic start of the containment spray pumps for a loss-of-coolant accident. The amendment also revised TS SR 3.6(3)a. to delete SRs for testing of the containment air cooling and filtering system emergency mode dampers and replace it with a surveillance to verify that the dampers are in the accident positions in all operating plant modes and deletes the requirement in TS SR 3.6(3)b. to remotely operate dampers. The amendment added license conditions related to the replacement and testing of containment air cleaning and filtering (CACF) unit HEPA (high-efficiency particulate air) filters and surveillance testing of the CACF unit relief ports. The license conditions require administrative controls pending the completion of detailed analysis and confirm commitments for the licensee to submit TS amendments by October 31, 2008.

Date of issuance: May 2, 2008.

Effective date: The license amendment is effective as of its date of issuance and shall be implemented prior to startup from the 2008 refueling outage.

Amendment No.: 255.

Renewed Facility Operating License No. DPR-40: The amendment revised the Technical Specifications and added additional conditions to the Renewed Facility Operating License.

Date of initial notice in Federal Register: August 28, 2007 (72 FR 49581), and January 29, 2008 (73 FR 5227). The supplemental letters dated August 31 and December 12, 2007, and February 21, March 28, and April 4 and 10, 2008, provided additional information that clarified the applications, did not expand the scope of the applications as originally noticed, and did not change the staff's original proposed no significant hazards consideration determination as published in the Federal Register. The Commission's related evaluation of the amendment is contained in a safety evaluation dated May 2, 2008.

No significant hazards consideration comments received: No.

Dated at Rockville, Maryland, this 9th day of May 2008.
For the Nuclear Regulatory Commission.
Catherine Haney,
Director, Division of Operating Reactor Licensing, Office of Nuclear Reactor Regulation.

[FR Doc. E8-11246 Filed 5-19-08; 8:45 am]

BILLING CODE 7590-01-P